ADVISORY COUNCIL ON HISTORIC PRESERVATION

Notice of Advisory Council on Historic Preservation Quarterly Business Meeting

AGENCY: Advisory Council on Historic Preservation.

ACTION: Notice of Advisory Council on Historic Preservation quarterly business meeting.

SUMMARY: Notice is hereby given that the Advisory Council on Historic Preservation (ACHP) will have its next quarterly meeting on Wednesday, October 26, 2022, from 1:30 p.m. to 4:30 p.m. Eastern Time. The meeting will be held through videoconferencing and a recording will be made available afterwards on www.achp.gov.

DATES: The quarterly meeting will take place on Wednesday, October 26, 2022 starting at 1:30 p.m. Eastern Time.

ADDRESSES: The meeting will take place via videoconferencing. A recording will be made available on www.achp.gov.

FOR FURTHER INFORMATION CONTACT: Tanya DeVonish, 202-517-0205, tdevonish@achp.gov.

SUPPLEMENTARY INFORMATION: The Advisory Council on Historic Preservation (ACHP) is an independent federal agency that promotes the preservation, enhancement, and sustainable use of our nation's diverse historic resources, and advises the President and the Congress on national historic preservation policy. The goal of the National Historic Preservation Act (NHPA), which established the ACHP in 1966, is to have federal agencies act as responsible stewards of our nation's resources when their actions affect historic properties. The ACHP is the only entity with the legal responsibility to encourage federal agencies to factor historic preservation into their decision making. For more information on the ACHP, please visit our website at www.achp.gov.

The agenda for the upcoming quarterly meeting of the ACHP is the following:

I. Vice Chairman's Welcome and Report

II. Acting Executive Director's Report

III. Climate Change and Historic Preservation Task Force

IV. Workforce Development and the Inflation Reduction Act

V. Native American Affairs

A. White House Council on Native American Affairs

B. Updating ACHP Policy Statement on Burials, Human Remains, and Funerary Objects

C. Native Languages Memorandum of Agreement

D. Other Reports

VI. Section 106

A. Electric Vehicle Supply Equipment Exemption

B. Army Program Comment on Vietnam War Era Historic Housing, Associated Buildings and Structures, and Landscape Features

C. GSA Exemption Update

D. Other Reports

VII. Communications, Education, and Outreach

A. Career and Preservation Discussions at Historically Black Colleges and Universities

B. Other Reports

VIII. Historic Preservation Policy and Programs

A. Traditional Trades and Potential Inflation Reduction Act Opportunities

B. Other Reports

IX. New Business

X. Adjourn

Due to continuing COVID-related conditions, the meeting will take place using a combination of Zoom videoconferencing and in-person attendance. Due to technical limitations, only ACHP and ACHP member staff will be able to watch live. However, a recording of the meeting will be posted on www.achp.gov when the proceedings conclude.

Authority: 54 U.S.C. 304102.

Dated: October 11, 2022.
Javier E. Marques,
General Counsel.

[FR Doc. 2022-22427 Filed 10-14-22; 8:45 am]

BILLING CODE 4310-K6-P